BROADCASTING BOARD OF GOVERNORS

Privacy Act of 1974; New System of Records

AGENCY: The Broadcasting Board of Governors.

ACTION: Notice of a New System of Records.

SUMMARY: BBG proposes to add a new time and attendance system to its inventory of records systems subject to the Privacy Act of 1974 (5 U.S.C. 522a), as amended. The primary purpose of this system is to track time worked and leave for pay administration, leave administration, reporting, and compliance functions. This action is necessary to meet the requirement of the Privacy Act to publish in the Federal Register notice of the existence and character of records maintained by the Agency (5 U.S.C. 522a(e)(4)).

DATES: This action will be effective without further notice on February 1, 2016, unless comments are received that would result in a contrary determination.

ADDRESSES: Send written comments to the Broadcasting Board of Governors, ATTN: Daniel Rosenholtz, Policy Officer, 330 Independence Avenue SW., Room 3324, Washington, DC 20237.

FOR FURTHER INFORMATION CONTACT: Greg Wyman, Payroll Manager, Office of the Chief Financial Officer or Carroll Cobb, Director, Office of Human Resources, BBG—Broadcasting Board of Governors, International Broadcasting Bureau, 330 Independence Avenue SW., Washington, DC 20237.

Dated: December 16, 2015.
John F. Lansing,
CEO and Director, BBG.

BBG-22, Employee Time and Attendance and Leave Records System

System name:

Employee Time and Attendance and Leave Records System.

System location:

Time and attendance reports, leave records, and service history files are located at 330 Independence Avenue SW., Washington, DC 20237, as well a FedRAMP-certified secure government cloud facility in Reston, Virginia.

Security classification:

None.

Categories of individuals covered by the system:

Past and present BBG employees in the Civil Service and the Foreign Service, excluding Foreign Service Nationals and Personal Services Contractors.

Categories of records in the system:

These records include time and attendance and leave records, including number and type of hours worked (e.g., regular, overtime, night differential, or Sunday differential), compensatory time earned and used, credit hours earned and used under alternative work schedules, leave requests, and leave balances.

Authority for maintenance of the system:

5 U.S.C. 301; 5 U.S.C. Chapter 53; 5 U.S.C. Chapter 55; 5 U.S.C. Chapter 61; 5 U.S.C. Chapter 63; 44 U.S.C. 3101.

Purpose(s):

The purpose of this system is to track time worked and leave for pay administration, leave administration, reporting, and compliance functions.

Routine uses of records maintained in the system, including categories of users and the purposes of such uses:

The primary uses of the records are to manage the BBG's fiscal operations for payroll, time and attendance, leave, insurance, tax, retirement, qualifications, and benefits functions. In addition to those disclosures generally permitted under 5 U.S.C. 552a(b), all or a portion of the records contained in this system of records may be disclosed outside BBG as a routine use as follows:

(1) A record from this system may be disclosed to Federal entities that provide payroll processing services to BBG. These services may include the issuance of salary payments to employees and distribution of wages and the distribution of allotments and deductions to financial and other institutions, many of which are through electronic funds transfer.

(2) A record from this system may be disclosed to other Federal entities, including the Department of Treasury and the Office of Personnel Management, for purposes of: Processing payroll payments; collecting withheld taxes; managing personnel; processing benefits; establishing and maintaining records related to payroll, retirement, and benefits; processing worker's compensation claims; conducting personnel research; and producing statistics or analytical studies and reports.

(3) To appropriate agencies, entities, and persons when: (a) It is suspected or confirmed that the security or confidentiality of information in the system of records has been compromised; (b) the BBG has determined that, as a result of the suspected or confirmed compromise, there is a risk of harm to economic or property interests, identity theft or fraud, or harm to the security or integrity of this system or other systems or programs (whether maintained by the BBG or another agency or entity) that rely upon the compromised information; and (c) the disclosure made to such agencies, entities, and persons is reasonably necessary to assist in connection with the BBG's efforts to respond to the suspected or confirmed compromise and prevent, minimize, or remedy such harm.

(4) A record from this system may be also be disclosed in accordance with the Statement of General Routine Uses Applicable to All BBG Systems of Records, originally published at 69 FR 46478, Aug. 3, 2004.

Policies and practices for storing, retrieving, accessing, retaining, and disposing of records in the system:

Storage:

Records are maintained in electronic and paper format. Electronic records are stored in secure computerized databases. Paper records are stored in locked rooms and/or file cabinets.

Retrievability:

These records may be retrieved by identifiers including, but not limited to, individual's name, social security number or employee number, and date of birth, or organizational code.

Safeguards:

Access to records is limited to authorized BBG employees having an official use or need for the information. All records are stored within secure buildings with access granted only to individuals with appropriate identification. All paper records are maintained in locked offices and/or file cabinets during non-duty hours and are protected by office personnel when being used during duty hours. All users of personal information in connection with the performance of their jobs protect information from public view and from unauthorized personnel entering an unsupervised office.

Technical security measures within the electronic time and attendance system include: Restrictions on computer access to authorized individuals; required use of strong, frequently changed passwords; use of encryption for certain data types and transfers; and regular review of security procedures and best practices to enhance security. Physical measures include restrictions on building access to authorized individuals and maintenance of records in lockable offices and filing cabinets. Only specifically authorized individuals may access the electronic time and attendance computer system, and unique User IDs and passwords are required.

Retention and Disposal:

Agency time and attendance records are retained in accordance with the National Archives and Records Administration General Records Schedule 2.

System manager(s) and address:

Payroll Manager, Office of the Chief Financial Officer and Director, Office of Human Resources, BBG—Broadcasting Board of Governors, International Broadcasting Bureau, 330 Independence Avenue SW., Washington, DC 20237.

Notification procedures:

Individuals who want to know whether this system of records contains information about them, or who want access to their records, or who want to contest the contents of a record, may make a written request to: FOIA/Privacy Act Officer, BBG, Suite 3349, 330 Independence Ave. SW., Washington, DC 20237. Individuals' requests should contain the name and address of the system manager (listed above) and must contain the following information to enable their records to be located and identified:

A. Full legal name;

B. Date of Birth;

C. Social Security Number or employee identification number;

D. Last employing organization (include duty station location) and the approximate dates of employment or contact; and

E. Signature.

Record access procedures:

Individuals wishing to request access to their records should follow the Notification Procedures (listed above). Individuals requesting access will also be required to provide identification, such as a driver's license, employee identification card, or other appropriate identifying document. A notarized signature is required if the request is made by written correspondence. To request a record other than your own, you must have a signed and notarized statement from the individual to whom the record pertains granting you express permission to access their record.

Contesting record procedures:

The BBG's rules for access and for contesting record contents and appealing determinations appear in 22 CFR part 505. The right to contest records is limited to information that is incomplete, irrelevant, erroneous, or untimely.

Record source categories:

The individual about whom the record is maintained, supervisors, timekeepers, and official personnel records.

Exemptions claimed for the system:

None.

[FR Doc. 2015-32361 Filed 12-22-15; 8:45 am]

BILLING CODE 8610-01-P